DEPARTMENT OF ENERGY

Federal Energy Regulatory Commission

[Docket No. CP07-404-000]

Centerpoint Energy Gas Transmission Company; Notice of Request Under Blanket Authorization

July 3, 2007.

Take notice that on June 20, 2007, CenterPoint Energy Gas Transmission Company (CEGT), 1111 Louisiana Street, Houston, Texas 77002-5231, filed in Docket No. CP07-404-000, a prior notice request pursuant to sections 157.205 and 157.208 of the Federal Energy Regulatory Commission's regulations under the Natural Gas Act for authorization to replace an existing delivery lateral and increase the line's maximum allowable operating pressure (MAOP), located in Ouachita and Union Counties, Arkansas, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (886) 208-3676 or TYY, (202) 502-8659.

Specifically, CEGT proposes to replace approximately 24.9 miles of Line E, a 12-inch diameter mechanically-coupled pipeline, with approximately 24.9 miles of 12-inch steel welded pipe, install a 10-inch interconnect between Line E and Line SM-23, and install auxiliary facilities including pig launcher and receiver facilities, a 6-inch check meter station and 4-inch regulator, and all other appurtenant facilities necessary. CEGT also requests authorization to increase the MAOP of the proposed replacement segment of Line E from 415 psig to 800 psig. CEGT states that the MAOP increase will enable Line E to operate up to Line SM-23's current MAOP of 800 psig. CEGT estimates the cost of construction to be $17,717,876.

Any questions regarding the application should be directed to Lawrence O. Thomas, Director-Rate & Regulatory, CenterPoint Energy Gas Transmission Company, P. O. Box 21734, Shreveport, Louisiana 71151, or call at (318) 429-2804.

Any person or the Commission's Staff may, within 60 days after the issuance of the instant notice by the Commission, file pursuant to Rule 214 of the Commission's Procedural Rules (18 CFR 385.214) a motion to intervene or notice of intervention and, pursuant to section 157.205 of the Commission's Regulations under the Natural Gas Act (NGA) (18 CFR 157.205) a protest to the request. If no protest is filed within the time allowed therefore, the proposed activity shall be deemed to be authorized effective the day after the time allowed for protest. If a protest is filed and not withdrawn within 30 days after the time allowed for filing a protest, the instant request shall be treated as an application for authorization pursuant to Section 7 of the NGA.

The Commission strongly encourages electronic filings of comments, protests, and interventions via the Internet in lieu of paper. See 18 CFR 385.2001(a) (1) (iii) and the instructions on the Commission's Web site (http://www.ferc.gov) under the “e-Filing” link.

Kimberly D. Bose,
Secretary.

[FR Doc. E7-13458 Filed 7-10-07; 8:45 am]

BILLING CODE 6717-01-P